ENVIRONMENTAL PROTECTION AGENCY

[FRL OP-OFA-135]

Environmental Impact Statements; Notice of Availability

Responsible Agency: Office of Federal Activities, General Information 202-564-5632 or https://www.epa.gov/nepa.

Weekly receipt of Environmental Impact Statements (EIS)

Filed July 8, 2024 10 a.m. EST Through July 15, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240124, Final Supplement, USFS, ID, Crow Creek Pipeline Project, Review Period Ends: 09/03/2024, Contact: Robbert Mickelsen 208-557-5764.

EIS No. 20240125, Final, NRCS, ND, Cart Creek Site 1 of the North Branch Park River Watershed, Review Period Ends: 08/23/2024, Contact: Christi Fisher 701-530-2091.

EIS No. 20240126, Final, USFS, OR, Powder River Mining, Review Period Ends: 09/03/2024, Contact: Keifer Nace 541-523-1362.

EIS No. 20240127, Final, BLM, CO, Proposed Resource Management Plan Amendment and Final Environmental Impact Statement for Big Game Habitat Conservation for Oil and Gas Management, Review Period Ends: 08/19/2024, Contact: Alan Bittner 303-239-3768.

EIS No. 20240128, Draft, TVA, MS, New Caledonia Gas Plant Project, Comment Period Ends: 09/04/2024, Contact: Erica McLamb 423-751-8022.

Dated: July 15, 2024.
Nancy Abrams,
Associate Director, Office of Federal Activities.

[FR Doc. 2024-15943 Filed 7-18-24; 8:45 am]

BILLING CODE 6560-50-P